ENVIRONMENTAL PROTECTION AGENCY

40 CFR Part 112

Definitions

CFR Correction

In Title 40 of the Code of Federal Regulations, Protection of Environment, Parts 100 to 135, revised as of July 1, 2020, on page 26, in section 112.2, reinstate the definition of “worst case discharge,” in alphabetical order, to read as follows:

* * * * *

Worst case discharge for an on-shore non-transportation related facility means the largest foreseeable discharge in adverse weather conditions as determined using the worksheets in Appendix D to this part.

[FR Doc. 2021-11115 Filed 5-24-21; 8:45 am]

BILLING CODE 0099-10-D